DEPARTMENT OF COMMERCE

National Oceanic and Atmospheric Administration

[RTID 0648-XC935]

Pacific Island Fisheries; Marine Conservation Plan for Pacific Insular Areas other Than American Samoa, Guam, and the Northern Mariana Islands; Western Pacific Sustainable Fisheries Fund

AGENCY: National Marine Fisheries Service (NMFS), National Oceanic and Atmospheric Administration (NOAA), Commerce.

ACTION: Notice of agency decision.

SUMMARY: NMFS announces approval of a Marine Conservation Plan (MCP) for Pacific Insular Areas other than American Samoa, Guam, and the Northern Mariana Islands.

DATES: This agency decision is effective from August 4, 2023, through August 3, 2026.

ADDRESSES: You may obtain a copy of the MCP, identified by NOAA-NMFS-2023-0056, from the Federal e-Rulemaking Portal, https://www.regulations.gov/docket/NOAA-NMFS-2023-0056, or from the Western Pacific Fishery Management Council (Council), 1164 Bishop St., Suite 1400, Honolulu, HI 96813, 808-522-8220, https://www.wpcouncil.org.

FOR FURTHER INFORMATION CONTACT: Keith Kamikawa, Sustainable Fisheries, NMFS Pacific Islands Regional Office, 808-725-5177.

SUPPLEMENTARY INFORMATION: Section 204(e) of the Magnuson-Stevens Fishery Conservation and Management Act (Magnuson-Stevens Act) authorizes the Secretary of State, with the concurrence of the Secretary of Commerce (Secretary), and in consultation with the Council, to negotiate and enter into a Pacific Insular Area fishery agreement (PIAFA). A PIAFA would allow foreign fishing within the U.S. Exclusive Economic Zone (EEZ) adjacent to a Pacific Insular Area other than American Samoa, Guam, or the Northern Mariana Islands, that is, in the EEZ around the Pacific Remote Island Areas (PRIA). The PRIA are Baker Island, Howland Island, Jarvis Island, Johnston Atoll, Kingman Reef, Midway Island, Palmyra Atoll, and Wake Island. Before entering into a PIAFA for the PRIA, the Council must develop and submit to the Secretary a 3-year MCP that details the uses for funds collected by the Secretary under the PIAFA. NMFS is the designee of the Secretary for MCP review and approval.

The Magnuson-Stevens Act requires payments received under a PIAFA, and any funds or contributions received in support of conservation and management objectives for the MCP, to be deposited into the Western Pacific Sustainable Fisheries Fund (Fund) for use by the Council. Additionally, in the case of violations by foreign fishing vessels in the EEZ around the PRIA, amounts received by the Secretary attributable to fines and penalties imposed under the Magnuson-Stevens Act, including sums collected from the forfeiture and disposition or sale of property seized subject to its authority, are deposited into the Fund for use by the Council, after direct costs of the enforcement action are subtracted. Section 204(e)(7)(C) of the Magnuson-Stevens Act also authorizes the Council to use the Fund to meet conservation and management objectives in the State of Hawaii, if funds remain available.

An MCP must be consistent with the Council's fishery ecosystem plans (FEPs), must identify conservation and management objectives (including criteria for determining when such objectives have been met), and must prioritize planned marine conservation projects. Although no foreign fishing in the PRIA is being considered at this time, the Council reviewed and approved the draft MCP at its March 2023 meeting. On April 5, 2023, the Council's Executive Director submitted the MCP to NMFS for review and approval.

The MCP contains the following five conservation and management objectives that are consistent with the FEP for the PRIA and the FEP for Pelagic Fisheries of the Western Pacific:

1. Support quality research and monitoring to obtain the most complete scientific information available to assess and manage fisheries within an ecosystem approach;

2. Conduct education and outreach to foster good stewardship principles and broad and direct public participation in the Council's decision making process;

3. Promote regional cooperation to manage domestic and international fisheries;

4. Encourage development of technologies and methods to achieve the most effective level of monitoring, control and surveillance (MCS) and to ensure safety at sea; and

5. Western Pacific Community Development Program and Western Pacific Community Demonstration Projects Program.

In addition, the MCP contains seven conservation and management objectives that are consistent with the FEP for the Hawaii Archipelago:

1. Support quality research and monitoring to obtain the most complete scientific information available to assess and manage fisheries within an ecosystem approach;

2. Promote an ecosystem approach to fisheries management including reducing bycatch in fisheries and minimizing impacts on marine habitat and impacts on protected species and addressing climate change adaptation and mitigation;

3. Conduct education and outreach to foster good stewardship principles and broad and direct public participation in the Council's decision making process;

4. Recognize the importance of island cultures and traditional fishing practices in managing fishery resources and foster opportunities for participation;

5. Promote responsible domestic fisheries development to provide long term economic growth and stability by reducing foreign imports and increasing local seafood production;

6. Promote regional cooperation and capacity building to manage domestic and international fisheries; and

7. Encourage development of technologies and methods to achieve the most effective level of monitoring, control and surveillance and to ensure safety at sea.

Please refer to the MCP for projects and activities designed to meet each objective, the evaluative criteria, and priority rankings.

This notice announces that NMFS has reviewed the MCP and determined that it satisfies the requirements of the Magnuson-Stevens Act. Accordingly, we have approved the MCP for the 3-year period from August 4, 2023, through August 3, 2026. This MCP supersedes the one approved previously for August 4, 2020, through August 3, 2023 (85 FR 65389, October 15, 2020).

Dated: May 22, 2023.
Ngagne Jafnar Gueye,
Acting Director, Office of Sustainable Fisheries, National Marine Fisheries Service.

[FR Doc. 2023-11232 Filed 5-25-23; 8:45 am]

BILLING CODE 3510-22-P